ENVIRONMENTAL PROTECTION AGENCY

40 CFR Part 300

[FRL-7140-2]

National Oil and Hazardous Substances Pollution Contingency Plan; National Priorities List

AGENCY: Environmental Protection Agency (EPA).

ACTION: Notice of deletion for the White Bridge Road property of the Asbestos Dump Superfund Site from the National Priorities List.

SUMMARY: The Environmental Protection Agency (EPA) announces the deletion of the White Bridge Road property of the Asbestos Dump Superfund Site (Site) from the National Priorities List (NPL). The Asbestos Dump Site is listed on the NPL as being located in Millington, New Jersey; however, the portion of the Site which is the subject of this deletion, the White Bridge Road property, is located in Long Hill Township, New Jersey. The NPL is appendix B of 40 CFR part 300 which is the National Oil and Hazardous Substances Pollution Contingency Plan (NCP), which EPA promulgated pursuant to section 105 of the Comprehensive Environmental Response, Compensation, and Liability Act of 1980 (CERCLA), as amended. EPA and the New Jersey Department of Environmental Protection have determined that all appropriate Fund-financed responses under CERCLA, as amended, have been implemented at the White Bridge Road property of the Asbestos Dump Site and that no further response action by responsible parties is appropriate. This partial deletion pertains only to the White Bridge Road property and does not include the other properties which make up the Asbestos Dump Site, which remain on the NPL.

EFFECTIVE DATE: February 8, 2002.

FOR FURTHER INFORMATION CONTACT: Kim O'Connell, Chief, Southern New Jersey Remediation Section, U.S. Environmental Protection Agency, Region II, 290 Broadway—19th Floor, New York, NY 10007-1866, (212) 637-4399.

SUPPLEMENTARY INFORMATION: To be deleted from the NPL is: the White Bridge Road property of the Asbestos Dump Superfund Site, Long Hill Township, New Jersey. A Notice of Intent to Delete for this portion of the Asbestos Dump Site was published in the Federal Register on December 13, 2001 (66 FR 64387). The closing date for comments on the Notice of Intent to Delete was January 14, 2002. EPA received no comments regarding this action. EPA identifies sites that appear to present a significant risk to public health, welfare, or the environment and it maintains the NPL as the list of those sites. As described in § 300.425(e)(3) of the NCP, any site or portion thereof deleted from the NPL remains eligible for remedial actions in the unlikely event that conditions at the site warrant such action in the future. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: January 29, 2002.
William J. Muszynski,
Deputy Regional Administrator, Region II.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR 1991 Comp., p.351; E.O. 12580, 52 FR 2923; 3 CFR, 1987 Comp., p. 193.

Appendix B—[Amended]

2. Table 2 of appendix B to part 300 is amended by adding a “P” in the Notes column in the entry for Asbestos Dump, Millington, New Jersey.

[FR Doc. 02-3098 Filed 2-7-02; 8:45 am]

BILLING CODE 6560-50-P